DEPARTMENT OF ENERGY

Federal Energy Regulatory Commission

[Project No. 14493-000]

KC Pittsfield LLC; Notice of Preliminary Permit Application Accepted for Filing and Soliciting Comments, Motions To Intervene, and Competing Applications

On February 1, 2013, KC Pittsfield LLC filed an application for a preliminary permit, pursuant to section 4(f) of the Federal Power Act (FPA), proposing to study the feasibility of the Drum-Spaulding Small Hydro Project (Drum-Spaulding Small Hydro Project or project) to be located on the Bear and American Rivers, near the city of Auburn, Placer County, California. The sole purpose of a preliminary permit, if issued, is to grant the permit holder priority to file a license application during the permit term. A preliminary permit does not authorize the permit holder to perform any land-disturbing activities or otherwise enter upon lands or waters owned by others without the owners' express permission.

The proposed project would use facilities that are part of Pacific Gas & Electric Company's (PG&E) Drum-Spaulding Project, FERC No. 2310. The proposed project would consist of two new development sites and a proposed re-commission of an existing powerhouse.

KC Pittsfield's Lake Valley Canal development, located at the drop between the Lake Valley canal and the Drum canal, would consist of: (1) The 8,400-foot-long Lake Valley canal; (2) an existing 30-inch-diameter, 2,100-foot-long pipeline serving as a penstock; (3) a new powerhouse containing a single Pelton type turbine generator rated at 1,300 kilowatts; and (4) approximately 800 feet of a new three-phase power line that will follow an existing PG&E road, and an upgrade of 1,600 feet of existing transmission line from single-phase to three-phase. KC Pittsfield's proposed development would have an average annual generation of 4 gigawatt-hours.

KC Pittsfield's proposed Bear-Halsey Canal Drop development would consist of: (1) An existing 30-foot drop at the end of the Bear River canal into the Halsey forebay; (2) a new powerhouse enclosing a propeller or bulb-type turbine generator rated at 800 kilowatts, located at the terminus of the Bear River canal discharge to the Halsey forebay; and (3) approximately 200 feet of new three-phase power line and the upgrade of approximately 1,400 feet of single-phase line to three-phase line. This proposed development would have an annual average generation of about 5 gigawatt-hours.

KC Pittsfield's proposed Alta Powerhouse development would consist of using PG&E's existing Unit 2 impulse turbine in the Alta Powerhouse of the Drum-Spaulding Project with an installed capacity of one megawatt or installing a new, smaller turbine. The Alta Powerhouse receives water from the Alta forebay via the Towle canal, which diverts water from Canyon Creek. Water discharged from the Alta Powerhouse is rediverted into the Placer County Water Agency's Lower Boardman canal for downstream consumptive water demands. This proposed development would have an average annual generation of 0.03 gigawatt-hours.

The project would require interconnection with existing PG&E transmission facilities. The proposed project would have a total installed capacity of 3.1 megawatts and generate a total estimated average annual energy production of 12 gigawatt-hours.

Applicant Contact: Ms. Kelly Sackheim, KC Pittsfield LLC, c/o Landry & Associates, 6 Chenell Drive, Suite 280, Concord, New Hampshire 03301, phone: (301) 401-5978.

FERC Contact: Joseph Hassell; phone: (202) 502-8079, email: Joseph.hassell@ferc.gov.

Deadline for filing comments, motions to intervene, competing applications (without notices of intent), or notices of intent to file competing applications: 60 days from the issuance of this notice. Competing applications and notices of intent must meet the requirements of 18 CFR 4.36.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. In lieu of electronic filing, please send a paper copy to: Secretary, Federal Energy Regulatory Commission, 888 First Street NE., Washington, DC 20426. The first page of any filing should include docket number P-14493-000.

More information about this project, including a copy of the application, can be viewed or printed on the “eLibrary” link of Commission's Web site at http://www.ferc.gov/docs-filing/elibrary.asp. Enter the docket number (P-14493) in the docket number field to access the document. For assistance, contact FERC Online Support.

Dated: September 12, 2013.
Kimberly D. Bose,
Secretary.

[FR Doc. 2013-22696 Filed 9-17-13; 8:45 am]

BILLING CODE 6717-01-P